DEPARTMENT OF COMMERCE

National Oceanic and Atmospheric Administration

[Docket No. 990907250-5223-03; I.D. 072905B]

Revised Guidelines for NOAA's Community-based Restoration Program

AGENCY: National Marine Fisheries Service (NMFS), National Oceanic and Atmospheric Administration (NOAA), Commerce.

ACTION: Request for comments on proposed revisions to Program Guidelines for the NOAA Community-based Restoration Program.

SUMMARY: NMFS initiated a Community-based Restoration Program (Program) in 1996 that provides Federal financial and technical assistance to encourage locally led coastal and marine habitat restoration, and to promote stewardship and conservation values for NOAA trust resources. The Program is a systematic national effort to foster partnerships at national, regional and local levels to implement sound habitat restoration. Partnerships are forged between government, not-for-profit organizations, community groups, recreational and commercial fishing organizations, students and educational institutions, businesses, youth conservation corps and private landowners. Under the Program, partners may contribute funding, land, technical assistance, workforce support or other in-kind services; promote local participation in habitat restoration activities; undertake research and monitoring to evaluate and improve project success; and facilitate stewardship for restored resources at the local level. To date, the Program has funded more than 1000 community-based habitat restoration projects in 27 states, Canada, and the Caribbean. NMFS is issuing revised guidelines for Program implementation for FY 2006 and beyond, to reflect the evolution of the program since its original implementation. NMFS is seeking comments from interested parties on the revised guidelines. One or more constituent meetings are also planned to solicit feedback on the Program and the revised Program guidelines. This is not a solicitation of project proposals.

DATES: Comments must be submitted by email or mail by October 11, 2005. To support the continued evolution of the Program, and as part of the Program Guidelines revision, the Restoration Center plans to solicit feedback through one or more constituent meetings. Meetings will be limited to approximately 30 participants and will include facilitated break-out group discussions to maximize feedback results. The first meeting will be held on September 13, 2005, in Washington D.C. Subsequent meetings will be planned to coincide with restoration-related conferences or meetings throughout 2006 to enable constituent participation without travel. These meetings will be physically accessible to people with disabilities. Requests for more information regarding the September meeting, including registration and requests for sign language or other auxiliary aids, should be directed to Robin Bruckner (see FOR FURTHER INFORMATION CONTACT).

ADDRESSES: Please send your comments by email to: CRP.Guidelines@noaa.gov, or by mail to: Director, NOAA Restoration Center, National Marine Fisheries Service, 1315 East West Highway (F/HC3), Silver Spring, MD 20910-3282.

FOR FURTHER INFORMATION CONTACT: Robin Bruckner, (301) 713-0174, or by e-mail at Robin.Bruckner@noaa.gov.

SUPPLEMENTARY INFORMATION: Proposed Guidelines for the NOAA Community-based Restoration Program were provided at 64 FR 53339, October 1, 1999. In that document, comments were sought on modifications to the Program that would allow greater flexibility to support community-based habitat restoration projects. Final Program Guidelines, including responses to comments, were provided at 65 FR 16890, March 30, 2000. Since the Guidelines were issued, the Program has experienced an increase in base funding and has subsequently implemented increased numbers of locally initiated, grass-roots habitat restoration projects through partnerships at the local, regional and national levels. The NOAA Restoration Center within NMFS is issuing revised guidelines, proposed here, that reflect the evolution of the Program, including measures that are in place or planned to enable the Program to demonstrate increased accountability for the expenditure of public dollars.

Background

Habitat loss and degradation threaten the long-term sustainability of the nation's fishery resources. Over 75 percent of commercial fisheries and 80 to 90 percent of recreational marine and diadromous fishes depend on estuarine or coastal habitats for all or part of their life cycles. Protecting existing, undamaged habitat is a priority and should be combined with coastal habitat restoration to enhance the functionality of degraded habitat. Restored coastal habitat will help rebuild fisheries stocks and recover threatened and endangered species. Restoring marine and coastal habitats will help ensure that valuable natural resources will be available to future generations of Americans.

The purpose of this document is to replace the Program Guidelines that were published in 2000, and outline the goals, objectives, and structure of the Program that will guide its implementation in FY 2006 and beyond. This notice also references changes made by NOAA to standardize evaluation criteria for its competitive grant programs. The Program will provide annual notification regarding the availability of funds through the NOAA Omnibus Federal Register Notice process and associated Federal Funding Opportunity (FFO) detail, and will solicit project proposals once a year, or more.

Electronic Access

Information on the Program, including partnerships and projects that have been funded to date, can be found on the World Wide Web at: http://www.nmfs.noaa.gov/habitat/restoration.

Overview of Changes to the Program

Since the Program began, Congressional appropriations have increased from $250,000 in 1999 to $13.6 million in 2005. To effectively manage this growth, to provide better service to constituents, and to accurately report on the Program's accomplishments, the Restoration Center has changed some of its practices and implemented a number of tools to increase efficiency and accountability.

In 2001 a Restoration Center database was launched to track habitat acres created, established, rehabilitated, enhanced or protected; stream miles made accessible to diadromous fish; volunteer or community participation hours; restoration techniques used; habitat types and species benefited; and other parameters for Restoration Center supported projects. The database has increased NOAA staff efficiency and allows the Restoration Center to respond quickly and accurately to Congressional and Administrative inquiries, such as those on Program performance measures, through reporting features that can calculate the acreage or stream miles restored by all projects completed in any particular year, for example. Recent enhancements to the database include additional fields related to environmental compliance, display and collection of project locations through a Geographic Information System (GIS) based mapping application, and revised parameters to facilitate data-sharing with the National Estuaries Restoration Inventory.

To evaluate the progress of the work proposed under Program awards, to determine whether projects were successfully completed, and to facilitate population of the database with project-specific information, the Restoration Center sought and received approval in 2004 from the Office of Management and Budget (OMB) to collect detailed project information from grantees. This information, such as restoration techniques used, species benefited, geographic coordinates of project sites, and monitoring and outreach information, is now required as part of semi-annual progress reporting. Before April 2006, the Restoration Center plans to seek renewed approval from OMB, under the Paperwork Reduction Act, to continue collecting this information.

In coordination with the Estuaries and Clean Waters Act of 2000 (Public Law 106-457), the Restoration Center has also begun requiring science-based monitoring of restoration projects, where appropriate, in an effort to improve on-the-ground restoration efforts and increase Program effectiveness. Applicants requesting funding to implement on-the-ground habitat restoration projects that will result in structural or functional habitat changes must have clearly identified goals (broad in scope) and specific, measurable objectives. Evaluating these objectives requires monitoring, during the project period, of at least one structural and one functional parameter, as supported by Title I of the Estuaries and Clean Waters Act of 2000 (Public Law 106-457), to ensure a basic assessment of project success. A fact sheet with examples of structural and functional monitoring parameters is available on the World Wide Web at: http://www.nmfs.noaa.gov/habitat/restoration, and assistance in refining the objectives and/or selecting appropriate parameters is available from Program staff.

The Program anticipates that a limited portion of annually available funds may be used to support high quality, quantitative monitoring projects to advance the science and technology of coastal and marine habitat restoration to support the Restoration Center's Research Program area. Independent applications emphasizing science-based monitoring of previously completed Community-based Restoration Program projects may be accepted, however, applications for research or monitoring of projects not funded by the Program will not be considered under annual funding solicitations unless funding for the Program increases significantly.

In conjunction with science-based monitoring of projects, the Program will begin assessing and monitoring the human dimensions (demographic, economic, psychological, cultural, and ethical aspects) of habitat restoration. Fostering a community's and an individual's stewardship ethic is an important component of the Program. It is assumed with some certainty that participating in on-the-ground restoration projects cultivates and promotes environmental stewardship; however, the Program expects to begin quantifying this assumption over the next several years.

Both the Restoration Center Database and implementation of minimum monitoring requirements support NOAA's strategic plan and allow better project tracking and evaluation of performance measures. Revision of habitat-related and other relevant performance measures in coordination with all major NOAA programs involved with habitat restoration is ongoing through NOAA's Habitat Program.

Program Goals and Objectives

The goals and objectives that have defined the Program to date have not changed. These include:

• Producing on-the-ground habitat restoration within a relatively short time period;

• Using a competitive, technical review process, whenever possible, to maximize opportunities for public access to Program resources;

• Partnering with national and regional organizations, as well as local groups, to undertake habitat restoration;

• Offering NOAA technical expertise in addition to financial assistance for project design, implementation, and environmental compliance;

• Leveraging NOAA's financial contribution by collaborating with other governmental agencies, industry and businesses, non-governmental and not-for-profit organizations, and academia;

• Ensuring projects are monitored to evaluate success and direct corrective actions; and

• Encouraging long-term stewardship and catalyzing future habitat restoration projects.

In general, the Program's objective is to establish or supplement partnerships to implement coastal and marine habitat restoration projects that benefit NOAA trust resources. Partnerships with citizen groups, public and not-for-profit organizations, industry, corporations and businesses, youth conservation corps, students, landowners, and local government, and state and Federal agencies are supported through the provision of Federal financial and technical assistance at national, regional and local levels. Partners help identify and secure additional funding, land, technical assistance, workforce support or other in-kind services to enable citizens to improve locally important habitats that sustain living marine and coastal resources. Projects are most often implemented in coastal and nearshore marine and estuarine environments and in riverine environments that support diadromous fish; expansion of the Program to the Great Lakes is being considered, and will be dependent on the NOAA Habitat Program's goals and Congressional appropriations made for this purpose. It is anticipated that any projects supported in the Great Lakes region will fall under these Program Guidelines.

The Program places emphasis on habitat restoration projects with strong community support and recognizes the significant role that communities can play in habitat restoration and protection. Projects that incorporate citizens' “hands-on” involvement in project implementation, monitoring, or outreach and education are preferred. The role of NOAA in the Program is to strengthen the development and implementation of sound restoration projects. NOAA staff will continue to provide guidance and technical expertise on permitting, environmental compliance, engineering and design, and similar aspects required for project implementation.

Successful applicants will be those whose projects demonstrate collaboration among entities such as nonprofit organizations, citizen groups, industry, youth conservation corps, students, landowners, academics, local government, and state, and federal agencies to implement habitat restoration projects. Projects should be able to report a net gain in habitat acres restored or stream miles re-established for diadromous fish passage, and should document volunteer involvement and a maximization of project partnerships. Eligibility requirements will be detailed in annual solicitations.

The NOAA Restoration Center uses cooperative agreements focused at two distinct levels of partnership as the primary funding mechanism to accomplish habitat restoration. Direct project funding is announced annually in NOAA's Omnibus Federal Register Notice. This opportunity focuses on partnerships at the local level, and project awards currently provide up to $250,000 to support individual habitat restoration projects, or a suite of well developed restoration projects, for up to 24 months. National and Regional Habitat Restoration Partnership funding is announced every 3 years through the NOAA Omnibus Federal Register Notice. Partnership awards are up to 36 months in duration, are usually larger than project awards, and specific projects are often not identified at the time of application. Partnership applications outline the concept and focus of habitat restoration activities and detail the mechanism under which individual projects will be identified and subsequently funded as subawards through the partner organization. Partner organizations assume the administrative responsibilities for subawards, such as letting contracts and managing progress and financial reports. This allows NOAA staff to focus on assisting with project implementation. The next solicitation for national and regional habitat restoration partnerships is expected to be published in June 2006, for 2007-2010 funding.

Eligible Restoration Activities

Restoration may include, but is not limited to, improvement of coastal wetland tidal exchange or reestablishment of historic hydrology; dam or berm removal; improvement or reestablishment of fish passage; reef/substrate creation; establishment of riparian buffer zones and improvement of freshwater habitat features in watersheds that support diadromous fish; exclusionary fencing and planting; invasive species removal; planting of native coastal wetland and submerged aquatic vegetation; and enhancement of feeding, spawning and growth habitat essential to marine or diadromous fish, including degraded areas that historically were important habitat for living marine and coastal resources, and through the restoration of which would support these resources again.

Program Priorities

In general, restoration project proposals will be expected to clearly demonstrate anticipated benefits to specific NOAA trust resource habitats; describe how these benefits will be achieved through the proposed restoration activities, and identify the range of species expected to benefit. NOAA trust resource habitats include but are not limited to, estuaries, salt marshes, seagrass beds, coral reefs, shellfish reefs, mangrove forests, and riparian habitat near rivers, streams and creeks used by diadromous fish.

NMFS will emphasize selection of restoration projects that address habitats whose regional condition is compromised due to loss, fragmentation, presence of invasive species, or loss of functionality. In addition, habitat restoration projects will be favored if they are socially and economically important (e.g. will benefit essential fish habitat that supports commercial or recreational fishery resources, or that improves aesthetic and stewardship value of NOAA trust resource habitats) within their region. Within a given habitat, priority will also be given to project proposals that incorporate proven effective restoration techniques, address causes of habitat degradation/loss, and maximize cost-effectiveness.

Since the inception of the Program, West Coast projects have focused primarily on restoration of salmonid freshwater habitats. To broaden the scope of funded projects in the Pacific Northwest and California, the Program may give priority to proposals for projects that benefit multiple species, including non-salmonid resources, and projects that emphasize restoration of marine and estuarine habitats. The Program expects to continue to support freshwater salmonid habitat restoration efforts, however projects that benefit multiple species including non-salmonid marine resources may receive greater funding consideration. In addition, any salmonid project that would occur where NOAA species recovery planning efforts are underway must be consistent with those planning efforts.

While the primary focus of the Program is to provide funding and technical expertise to support on-the-ground implementation of fishery habitat restoration projects that involve an outreach and/or volunteer component tied to the restoration activities, the Program recognizes that accomplishing restoration is a multi-faceted effort involving project design, engineering services, permitting, short-term baseline studies, construction, oversight, monitoring, and education and outreach. In cases where on-the-ground funding for a project has been secured or is deemed likely, and/or community support for a restoration project is high, but pre-implementation funding to conduct feasibility studies or engineering and design is limiting a project's forward progress, the Program reserves the right to consider funding such pre-implementation activities. Proposals emphasizing a singular component, such as only education or program coordination will be discouraged, as will applications that propose to expand an organization's day-to-day activities, or that primarily seek support for administration, salaries, overhead, and travel. Because requests for habitat restoration funds historically exceed funds available, funding land purchase agreements, conservation easements, and large equipment purchases such as vehicles, boats and similar items will receive low priority.

Although NMFS recognizes that water quality issues may impact habitat restoration efforts, this Program is intended to fund projects that target physical and/or biological habitat restoration rather than those that result in direct water chemistry improvements (i.e. wastewater treatment plant upgrades or combined sewer outfall corrections). Similarly, the following restoration projects will not be eligible for funding: (1) Activities that constitute legally required mitigation for the adverse effects of an activity regulated or otherwise governed by local, state or Federal law; (2) activities that constitute restoration for natural resource damages under Federal, state or local law; and (3) activities that are required by a separate consent decree, court order, statute or regulation. Funds from this Program may be sought to enhance restoration activities beyond the scope legally required by these activities.

Environmental Compliance

It is the applicant's responsibility to obtain all necessary Federal, state and local government permits and approvals for the proposed work. Applicants are expected to design their projects so that they minimize the potential for adverse impacts to the environment. NOAA must analyze the potential environmental impacts, as required by the National Environmental Policy Act (NEPA), for applications that seek NOAA funding. Proposals should provide enough detail for NOAA to make a NEPA determination. Successful applications cannot be forwarded to the NOAA Grants Management Division with recommendations for funding until NOAA completes necessary NEPA documentation.

Consequently, as part of an applicant's package, and under the description of proposed activities, applicants will be required to provide detailed information on the activities to be conducted, such as site locations, species and habitat(s) to be affected, possible construction activities, and any environmental concerns that may exist (e.g., the use of and/or disposal of hazardous or toxic substances, introduction of non-indigenous species, impacts to endangered and threatened species, impacts to coral reef systems, etc.). For partnerships, where project-specific details may not be available at the time an award is made, partners must meet the same environmental compliance requirements on subsequent sub-awards.

In addition to providing specific information that will serve as the basis for any required impact analyses, applicants may also be required to assist NOAA in drafting of an environmental assessment if NOAA determines an assessment is necessary and that one does not already exist for the activities proposed in the application. Applicants will also be required to cooperate with NOAA in identifying and implementing feasible measures to reduce or avoid any identified adverse environmental impacts of their proposal. The selecting official may decide, at the time of proposal review, to recommend funding a project in phases to enable an applicant to provide information needed for an environmental assessment, feasibility analysis or similar activity if a NEPA determination cannot be made for all activities in a particular application. The selecting official may also impose special award conditions that limit the use of funds for activities that have outstanding environmental compliance requirements. Special award conditions may also be imposed to ensure grantees consider and plan for the safety of volunteers, and provide appropriate credit for NOAA and other contributors, for example.

Funding Sources and Dispersal Mechanisms

The Restoration Center envisions funding projects through cooperative agreements and grants, contracts, joint project agreements, and intra- and interagency transfers, as appropriate.

A cooperative agreement is a legal instrument reflecting a relationship between NOAA and a recipient whenever (1) the principal purpose of the relationship is to provide financial assistance to the recipient and (2) substantial involvement is anticipated between NOAA and the recipient during performance of the contemplated activity. A grant is similar to a cooperative agreement, except that in the case of grants, substantial involvement between NOAA and the recipient is not anticipated during the performance of the contemplated activity. Financial assistance is the transfer of money, property, services or anything of value to a recipient in order to accomplish a public purpose of support or stimulation that is authorized by Federal statute.

A contract is a procurement instrument used when the primary purpose is to acquire goods or services for government use. Contracts may be used by the Program when NOAA directly implements priority restoration projects.

The Secretary of Commerce has authority to enter into joint project agreements with not-for-profit, research, or public organizations on matters of mutual interest, the cost of which is equitably apportioned. The principal purpose of a joint project agreement under this Program is to engage in a collaborative and equitably apportioned effort with a qualified organization on matters of mutual interest.

For purposes of this Program, interagency agreements are written documents that contain specific provisions of governing authorities, agency responsibilities, and funding. Such agreements are entered into between NOAA and a reimbursing Federal agency or between another Federal agency and NOAA when NOAA is the funding organization. Such agreements will also require the inclusion of a local sponsor for the restoration project.

The instrument chosen will be based on such factors as degree of direct NOAA involvement with the project beyond the provision of financial assistance, the proportion of funds invested in the project by NOAA and the other organizations, and the efficiency of the different mechanisms to achieve the Program's goals and objectives. The Restoration Center will determine which method is the most appropriate based on the specific circumstances of each project.

NOAA reserves the right to fund individual projects directly, or through partnership arrangements. The Program will continue to create partnership arrangements at the national and regional level with organizations that have similar goals for improving fisheries habitat. Partnerships are a key element that allows the Restoration Center to significantly leverage the funding available for on-the-ground restoration. Partnerships also encourage sharing and distribution of technical expertise; they often improve coordination between diverse organizations with common goals, and they allow NOAA to reach larger and more diverse communities that have vested interests in fishery habitat restoration.

The Restoration Center will function in a clearinghouse capacity to help develop and link high quality habitat restoration proposals with other potential funding sources whose evaluation criteria contain similar specifications for habitat enhancement. This will provide greater exposure for project ideas and increase the chances for project proponents to secure funding.

Each year, the Restoration Center Director will determine the proportion of Program funds that will be allocated to National and Regional Habitat Restoration Partnerships and the proportion available for direct project funding. The proportion will be established annually and may depend upon the amount of funds available from partnership organizations to leverage NOAA dollars and the ability of partners to help NOAA fund a broad array of projects over a wide geographic distribution. A synopsis of the partnership and/or project funding opportunity will be published in NOAA's Omnibus Federal Register Notice, typically in June of each year. Potential applicants will be directed to additional information contained in any Federal Funding Opportunity (FFO) announced on www.grants.gov. FFO's will contain a Funding Opportunity Description, Award Information, Eligibility Information, Application and Submission Information, Application Review and Selection Information, Award Administration Information, Administrative and National Environmental Policy Act Requirements, Agency Contacts, and other information for potential applicants.

The public should note that since publication of the initial Program Guidelines in 2000, NOAA has adopted five standard evaluation criteria for all its competitive grant programs, as follows: (1) Importance and Applicability of Proposal -This criterion ascertains whether there is intrinsic value in the proposed work and/or relevance to NOAA, Federal, regional, state or local activities; (2) Technical/Scientific Merit This criterion assesses whether the approach is technically sound and/or innovative, if the methods are appropriate, and whether there are clear project goals and objectives; (3) Overall Qualifications of Applicants This criterion ascertains whether the applicant possesses the necessary education, experience, training, facilities, and administrative resources to accomplish the project; (4) Project Costs - This criterion evaluates the budget to determine if it is realistic and commensurate with the project needs and time-frame; and (5) Outreach, Education, and Community Involvement - NOAA assesses whether the project provides a focused and effective education and outreach strategy regarding NOAA's mission. Information on how these criteria are specifically applied in the context of Community-based Restoration Program application evaluation are described each year in the FFO, and are currently available for the Program for FY 2006 on www.grants.gov (funding opportunity number NMFS-HCPO-2006-2000334).

Funding Ranges

In 2005, the Restoration Center accepted proposals requesting between $30,000 and $250,000; typical restoration project awards range from $50,000 to $200,000. This represents an increase in upper and lower funding ranges for projects from earlier Program Guidelines. Funding at lower levels (<$15,000) is no longer cost-effective due to increasing operational costs necessary to ensure environmental compliance; funding fewer projects at higher dollar amounts has also led to increases in Program efficiency.

Awards for establishing multi-year, National and Regional Habitat Restoration “umbrella” Partnerships, under which individual projects will be jointly reviewed and prioritized for funding, are anticipated to range between $100,000 and $2.0 million, with that range of funding anticipated to be provided to successful partnerships annually during a partnership's duration. Subsequent allocation of funding during the multi-year award period will be dependent on the satisfactory performance of the partner organization.

Project and Partnership solicitations (FFO's) will contain information on funding ranges, the weighting of NOAA's standard evaluation criteria, and additional factors that may be used by the selecting official to recommend a slate of projects to the Grants Management Division to receive awards. The number of awards and funding ranges to be made in FY 2006 and beyond will depend on the amount of funds appropriated to the Program annually by Congress.

Examples of Previously Funded Projects

The following examples are community-based restoration projects that have been funded with assistance from the Restoration Center. These examples are only illustrative and are not intended to limit the scope of future proposals in any way.

Fish Ladder Construction

An impediment to fish passage was corrected through the design and construction of a step-pool fish ladder, which now allows native steelhead trout to reach their historic spawning grounds.

Invasive Plant Removal

A coalition of volunteer groups called “Pepper busters” worked to remove exotic Brazilian pepper plants and replant native shoreline vegetation.

Salt Marsh Restoration

An undersized culvert was replaced to increase the mean high water level in the restricted portion of a marsh and restore tidal flushing to 20 acres of salt marsh.

Oyster Reef Restoration

Oyster reef habitat was increased by reconstructing historic reefs and seeding them with hatchery-produced seed oysters grown in floating cages by students.

Submerged Aquatic Vegetation Restoration

An evaluation of the feasibility of using volunteer divers to restore seagrass was developed. A protocol was created to train volunteers in water quality monitoring and seagrass transplantation techniques.

Kelp Forest Restoration

Community dive groups were trained in kelp reforestation activities, including the preparation, planting and maintenance of kelp sites, documentation of growth patterns, and changes in marine life attracted to the newly planted kelp areas.

Wetland Plant Nursery

An innovative wetland nursery program was implemented in local high schools, where science and ecology classes build wetland nurseries on campus to grow salt marsh grasses for local restoration efforts.

Derelict Fishing Gear Removal

A pilot project consisted of developing protocols and conducting initial removal efforts. After surveying, locating, and mapping derelict fishing gear, a minimum of 11 tons of lost and abandoned fishing gear was removed by licensed and certified divers.

Nuisance Dam Removal

Two small stone dams blocked fish migration, and degraded water quality and prey habitat conditions for anadromous fish. The dams, while only several feet high, also presented a public safety hazard. This project resulted in opening stream habitat to anadromous fish, restoring acres of tidal wetlands, and removal of a public safety hazard.

Riparian Habitat Restoration

Youth corps members were trained in the use of biorestoration and stabilization techniques to restore eroding riverbanks and improve habitat for salmon smolt and other fish species.

Diadromous Fish Habitat Restoration

Highly functional salmonid and wildlife habitat was restored with the cooperation of private landowners by opening silted enclosures along a slough to provide refuge for juvenile salmonids during the winter flood flows.

Dated: August 19, 2005.
William T. Hogarth,
Assistant Administrator for Fisheries, National Marine Fisheries. Service.

[FR Doc. 05-16844 Filed 8-23-05; 8:45 am]

BILLING CODE 3510-22-S